GENERAL SERVICES ADMINISTRATION

[OMB Control No. 3090-0221]

Civilian Board of Contract Appeals; Information Collection; Civilian Board of Contract Appeals Rules of Procedure

AGENCY: Civilian Board of Contract Appeals, GSA.

ACTION: Notice; correction.

SUMMARY: The General Services Administration published a document in the Federal Register of December 9, 2008, concerning OMB Control No. 3090-0221 requesting comments on whether this collection of information is necessary and whether it will have practical utility; whether our estimate of the public burden of this collection of information is accurate, and based on valid assumptions and methodology; ways to enhance the quality, utility, and clarity of the information to be collected. The document contained an incorrect date.

FOR FURTHER INFORMATION CONTACT: Hada Flowers at (202) 208-7282, or by e-mail at hada.flowers@gsa.gov, General Services Administration, FAR Secretariat, Washington, DC 20405.

Correction

In the Federal Register of December 9, 2008, in FR Doc. 73-237, on page 74720, in the second column, correct the “Summary” caption, to read as follows:

SUMMARY: Under the provisions of the Paperwork Reduction Act of 1995 (44 U.S.C. Chapter 35), the General Services Administration has submitted to the Office of Management and Budget (OMB) a request to review and approve an extension of a currently approved information collection requirement regarding the Civilian Board of Contract Appeals (CBCA) Rules of Procedure. A request for public comments was published at 72 FR 65341, November 20, 2007. No comments were received. The clearance currently expires on April 30, 2009.

Public comments are particularly invited on: Whether this collection of information is necessary and whether it will have practical utility; whether our estimate of the public burden of this collection of information is accurate, and based on valid assumptions and methodology; ways to enhance the quality, utility, and clarity of the information to be collected.

Dated: January 6, 2009.
Al Matera,
Director, Office of Acquisition Policy.

[FR Doc. E9-299 Filed 1-9-09; 8:45 am]

BILLING CODE 6820-EP-P